DEPARTMENT OF ENERGY

Federal Energy Regulatory Commission

[Docket No. CP06-9-000]

Florida Gas Transmission Company; Notice of Application

November 1, 2005.

Take notice that on October 20, 2005, Florida Gas Transmission Company (FGT), 5444 Westheimer, Houston, Texas 77056, filed in Docket No. CP06-9-000, an application pursuant to sections 7(b) and (c) of the Natural Gas Act (NGA), and part 157 of the Commission's regulations requesting: (i) Approval to abandon certain mainline pipeline; and (ii) a certificate of public convenience and necessity to construct, and operate mainline pipeline, valves, and ancillary facilities to replace the abandoned facilities. The project is designed to relocate a portion of FGT's pipeline system due to a widening project involving 11.3 miles of State Road 91 in Broward County, Florida to be undertaken by the Florida Department of Transportation/Florida Turnpike Enterprise (FDOT/FTE), all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Specifically, FGT proposes to replace its existing 18-inch and 24-inch diameter pipeline with a single 36-inch diameter pipeline. The existing 18-inch and 24-inch diameter pipeline will be abandoned in place, with the exception of pipe segments that can be safely removed without harm to existing roads and roadway structures. The proposed project has an estimated cost of $110.2 million.

Any questions regarding this application should be directed to Stephen T. Veatch, Sr., Director, Certificates and Tariffs (713) 989-2024, Florida Gas Transmission Company (FGT), 5444 Westheimer Road, Houston, Texas 77056-5306.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: November 21, 2005.

Magalie R. Salas,
Secretary.

[FR Doc. E5-6154 Filed 11-4-05; 8:45 am]

BILLING CODE 6717-01-P